DEPARTMENT OF TRANSPORTATION

Office of the Secretary

[DOT-OST-2024-0067]

Notice To Renew the Advisory Committee on Transportation Equity (ACTE)

AGENCY: Office of the Secretary (OST), Department of Transportation (DOT).

ACTION: Notice of the charter renewal of the Advisory Committee on Transportation Equity (ACTE).

SUMMARY: DOT OST announces the charter renewal of ACTE. The Secretary has determined that renewing ACTE charter is necessary and is in the public interest.

DATES: The ACTE Charter will be effective for two years after date of publication of this Federal Register Notice.

FOR FURTHER INFORMATION CONTACT: Christopher Watkins, Designated Federal Officer, Departmental Office of Civil Rights, U.S. Department of Transportation, 1200 New Jersey Avenue SE, Washington, DC 20590, (202) 366-5990, ACTE@dot.gov.

SUPPLEMENTARY INFORMATION: This notice announces the renewal of the DOT ACTE as a Federal Advisory Committee in accordance with the provisions of the Federal Advisory Committee Act (FACA) as amended, 5 U.S.C. app. 2. The main objectives of the Committee are to provide advice and recommendations to inform the Department about efforts to: help inform the Secretary on promising practices to institutionalize equity into Agency programs, policies, regulations, and activities; strengthen and establish partnerships with overburdened and underserved communities who have been historically underrepresented in the Department's outreach and engagement; offer a forum for coordination and the exchange of information on equity concerns raised in local and regional transportation decisions; and provide added strength, objectivity, and confidence to management's decision-making process.

Dated: June 5, 2024.
Irene Marion,
Director, Departmental Office of Civil Rights.

[FR Doc. 2024-12635 Filed 6-7-24; 8:45 am]

BILLING CODE 4910-9X-P